DEPARTMENT OF TRANSPORTATION

Federal Aviation Administration

[Docket No. FAA-2024-0460]

Notice of Intent To Designate as Abandoned North American Flying Service Supplemental Type Certificate No. SA1-150

AGENCY: Federal Aviation Administration (FAA) DOT.

ACTION: Notice of intent to designate North American Flying Service Supplemental Type Certificate as abandoned; request for comments.

SUMMARY: This notice announces the FAA's intent to designate North American Flying Service Supplemental Type Certificate (STC) No. SA1-150 as abandoned and make the related engineering data available upon request. The FAA has received a request to provide engineering data concerning this STC. The FAA has been unsuccessful in contacting North American Flying Service concerning the STC. This action is intended to enhance aviation safety.

DATES: The FAA must receive all comments by September 3, 2024.

ADDRESSES: You may send comments on this notice by any of the following methods:

• Federal eRulemaking Portal: Go to regulations.gov. Follow the instructions for submitting comments.

• Mail: Gary Wechsler, AIR-755, FAA, East Certification Branch, 1701 Columbia Avenue, College Park, Georgia 30337.

• Email: Gary.Wechsler@faa.gov. Include “Docket No. FAA-2024-0460” in the subject line of the message.

• Hand Delivery: Deliver to mailing address above between 9 a.m. and 5 p.m., Monday through Friday, except Federal holidays.

FOR FURTHER INFORMATION CONTACT: Gary Wechsler, Aerospace Engineer, AIR-755, FAA, East Certification Branch, 1701 Columbia Avenue, College Park, Georgia 30337; phone 404-474-5575; email Gary.Wechsler@faa.gov.

SUPPLEMENTARY INFORMATION:

Comments Invited

The FAA invites interested parties to provide comments, written data, views, or arguments relating to this notice. Send your comments to an address listed under the ADDRESSES section. Include “Docket No. FAA-2024-0460” at the beginning of your comments. The FAA will consider all comments received on or before the closing date. All comments received will be available in the docket for examination by interested persons.

Background

The FAA is posting this notice to inform the public of the intent to designate North American Flying Service STC No. SA1-150, for the installation of a Continental C-85-8 engine, Sensenich 75GK-50 propeller, and Harrison HE431-9 engine oil cooler in Type Certificate A-675, Aeronca Aircraft Corporation, S-65-CA airplanes, as abandoned and subsequently release the related engineering data.

The FAA has received a third-party request for the release of the aforementioned engineering data under the provisions of the Freedom of Information Act (FOIA), 5 U.S.C. 552. The FAA cannot release commercial or financial information under FOIA without the permission of the data owner. However, in accordance with title 49 of the United States Code 44704(a)(5), the FAA can provide STC “engineering data” it possesses for STC maintenance or improvement, upon request, if the following conditions are met:

1. The FAA determines the STC has been inactive for three or more years;

2. Using due diligence, the FAA is unable to locate the owner of record or the owner of record's heir; and

3. The availability of such data will enhance aviation safety.

There has been no activity on this STC for more than three years.

On October 12, 2023, the FAA sent a certified letter to North American Flying Service at its last known address, 502 Hamilton St., Allentown, PA 18101. The letter informed North American Flying Service that the FAA had received a request for engineering data related to STC No. SA1-150 and was conducting a due diligence search to determine whether the STC was inactive and may be considered abandoned. The letter further requested that North American Flying Service respond in writing within 60 days and state whether it is the holder of the STC. The FAA also attempted to make contact with North American Flying Service by other means, including telephone communication and emails, without success.

Information Requested

If you are the owner or heir or a transferee of STC No. SA1-150 or have any knowledge regarding who may now hold STC No. SA1-150, please contact Gary Wechsler using a method described in this notice under FOR FURTHER INFORMATION CONTACT. If you are the heir of the owner or the owner by transfer of STC No. SA1-150, you must provide a notarized copy of your government-issued identification with a letter and background establishing your ownership of the STC and, if applicable, your relationship as the heir to the deceased holder of the STC.

Conclusion

If the FAA does not receive any response by September 3, 2024, the FAA will consider STC No. SA1-150 abandoned, and the FAA will proceed with the release of the requested data. This action is for the purpose of maintaining the airworthiness of an aircraft and enhancing aviation safety.

Issued on March 1, 2024.
Victor Wicklund,
Deputy Director, Compliance & Airworthiness Division, Aircraft Certification Service.

[FR Doc. 2024-04816 Filed 3-6-24; 8:45 am]

BILLING CODE 4910-13-P